DEPARTMENT OF THE INTERIOR

National Park Service

[NPS-WASO-NAGPRA-NPS0040427; PPWOCRADN0-PCU00RP14.R50000]

Notice of Intended Repatriation: California State Polytechnic University, Humboldt, Arcata, CA

AGENCY: National Park Service, Interior.

ACTION: Notice.

SUMMARY: In accordance with the Native American Graves Protection and Repatriation Act (NAGPRA), California State Polytechnic University, Humboldt (Cal Poly Humboldt) intends to repatriate certain cultural items that meet the definition of objects of cultural patrimony and that have a cultural affiliation with the Indian Tribes or Native Hawaiian organizations in this notice.

DATES: Repatriation of the cultural items in this notice may occur on or after July 28, 2025.

ADDRESSES: Send additional, written requests for repatriation of the cultural items in this notice to Megan Watson, Cal Poly Humboldt, 1 Harpst Street, Arcata, CA 95521, email calnagpra@humboldt.edu.

SUPPLEMENTARY INFORMATION: This notice is published as part of the National Park Service's administrative responsibilities under NAGPRA. The determinations in this notice are the sole responsibility of Cal Poly Humboldt, and additional information on the determinations in this notice, including the results of consultation, can be found in the summary or related records. The National Park Service is not responsible for the determinations in this notice.

Abstract of Information Available

A total of 9,241 cultural items have been requested for repatriation. The 9,241 objects of cultural patrimony include groundstone, flaked stone, unmodified faunal remains, floral remains, unmodified stones, manuports, soil samples, and historic items.

In 1990, two cultural items were purchased at the Redwood Acres Flea Market and donated to Humboldt State University (now Cal Poly Humboldt) by an anonymous donor. Written testimony from the anonymous donor, as well as an accompanying newspaper article clipping, indicates that these cultural items were removed from CA-HUM-351/H located in Arcata, California.

In 1991, one cultural item was removed from an unknown site (referred to as Mad River 2010) near the Mad River located in Humboldt County, California. No associated paperwork or documentation could be located, and it is unclear how the cultural item came to be held in the collections at Cal Poly Humboldt. However, a brief note accompanying the cultural item indicates it may have been collected by archaeologist Peter Dudley of Humboldt State University (now Cal Poly Humboldt).

In 1992, one cultural item was removed from an unknown site (referred to as Shirley Boulevard) located in Arcata, California. No associated paperwork or documentation could be located, and it is unclear how the cultural item came to be held in the collections at Cal Poly Humboldt.

In 1992, one cultural item was removed from an unknown site (referred to as Mad River Beach 1992) near Mad River Beach located in Tyee City, California. No associated paperwork or documentation could be located, and it is unclear how the cultural item came to be held in the collections at Cal Poly Humboldt.

In 1993, three cultural items were removed from CA-HUM-25/P-12-000083 (also known as Loud's 25) located in Samoa, California. The cultural items were removed from the site by archaeologists Allan Bramlette and Peter Dudley of Humboldt State University (now Cal Poly Humboldt). Of these cultural items, one is listed as missing in the catalog. Cal Poly Humboldt is working to locate this item. Should Cal Poly Humboldt locate this item, it will be considered part of this repatriation.

In 1993, 120 cultural items were removed from CA-HUM-939/P-12-000873 (also known as the Hunt Site) located in Bayside, California. The cultural items were removed by archaeologist James Roscoe of Humboldt State University (now Cal Poly Humboldt). Of these cultural items, 65 are listed as missing in the catalog and may have been reburied. Cal Poly Humboldt is working to locate these items. Should Cal Poly Humboldt locate these items, they will be considered part of this repatriation.

In 1994, 6,809 cultural items were removed from P-12-003033 (also known as the Meyer Site/Tipping Site) located in Fieldbrook, California. The cultural items were removed from the site during excavations conducted by students from Humboldt State University (now Cal Poly Humboldt) during the Archaeological Field Methods course. Records indicate that additional items from this site are held in the property owner's private collection and are not in the possession of Cal Poly Humboldt.

In 2007, 191 cultural items were removed from a site referred to as Trobitz/CRF-TRO-01 located in McKinleyville, California. The cultural items were removed by archaeologists Erik Whiteman and James Roscoe of Humboldt State University (now Cal Poly Humboldt).

In 2007, 2,113 cultural items were removed from P-12-001589 (also known as Ribar High Ground 2 and CRF-RH-02) located in Fieldbrook, California. The cultural items were removed by archaeologist Erik Whiteman of Humboldt State University (now Cal Poly Humboldt). Records indicate that one of these cultural items was deaccessioned and may no longer be in the possession of Cal Poly Humboldt. Should Cal Poly Humboldt locate this item, it will be considered part of this repatriation.

Determinations

Cal Poly Humboldt has determined that:

• The 9,241 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Wiyot Tribe, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 28, 2025. If competing requests for repatriation are received, Cal Poly Humboldt must determine the most appropriate requestor prior to repatriation. Requests for joint repatriation of the cultural items are considered a single request and not competing requests. Cal Poly Humboldt is responsible for sending a copy of this notice to the Indian Tribes and Native Hawaiian organizations identified in this notice and to any other consulting parties.

Authority: Native American Graves Protection and Repatriation Act, 25 U.S.C. 3004 and the implementing regulations, 43 CFR 10.9.

Dated: June 17, 2025.
Melanie O'Brien,
Manager, National NAGPRA Program.

[FR Doc. 2025-11936 Filed 6-26-25; 8:45 am]

BILLING CODE 4312-52-P